DEPARTMENT OF COMMERCE

International Trade Administration

A-580-825

Oil Country Tubular Goods, Other Than Drill Pipe, from Korea: Final Results of Antidumping Duty Administrative Review

AGENCY: Import Administration, International Trade Administration, U.S. Department of Commerce.

SUMMARY: On September 8, 2005, the Department of Commerce (“the Department”) published the preliminary results of its administrative review of the antidumping duty order on oil country tubular goods (OCTG), other than drill pipe, from Korea. See Oil Country Tubular Goods, Other Than Drill Pipe, from Korea: Preliminary Results of Antidumping Duty Administrative Review, 70 FR 53340 (September 8, 2005) (Preliminary Results). This review covers the following producers: Husteel Co., Ltd. (“Husteel”) and SeAH Steel Corporation (“SeAH”). The period of review (“POR”) is August 1, 2003, through July 31, 2004. Based on our analysis of the comments received, we have made changes to the Preliminary Results. For the final dumping margins, see the “Final Results of Review” section below.

EFFECTIVE DATE: March 14, 2006.

FOR FURTHER INFORMATION CONTACT: Nicholas Czajkowski or Scott Lindsay, AD/CVD Operations (6), Import Administration, International Trade Administration, U.S. Department of Commerce, 14th Street and Constitution Avenue, NW, Washington DC 20230; telephone: (202) 482-1395 or (202) 482-0780, respectively.

SUPPLEMENTARY INFORMATION:

Background

On September 8, 2005, the Department published in the Federal Register the preliminary results of its administrative review of the antidumping duty order on OCTG from Korea. See Preliminary Results. Since the Preliminary Results, the following events have occurred. On September 12, 2005, Respondents requested that the Department hold a hearing. A case brief from Respondents and a rebuttal brief from Petitioners were timely filed. The issues raised in the case and rebuttal briefs by interested parties in this administrative review are addressed in the Issues and Decisions Memorandum for the Final Results of the Administrative Review of the Antidumping Duty Order on Oil Country Tubular Goods (“OCTG”) from Korea (Issues and Decision Memorandum), which is hereby adopted by this notice. The Issues and Decision Memorandum is on file in the Central Records Unit (CRU), room B-099 of the Department of Commerce main building, and can be accessed directly at http://www.ia.ita.doc.gov/. The paper copy and electronic version of the Issues and Decision Memorandum are identical in content.

Scope of the Antidumping Duty Order

The products covered by this order are OCTG, hollow steel products of circular cross-section, including only oil well casing and tubing, of iron (other than cast iron) or steel (both carbon and alloy), whether seamless or welded, whether or not conforming to American Petroleum Institute (“API”) or non-API specifications, whether finished or unfinished (including green tubes and limited service OCTG products). This scope does not cover casing or tubing pipe containing 10.5 percent or more of chromium, or drill pipe. The products subject to this order are currently classified in the Harmonized Tariff Schedule of the United States (“HTSUS”) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS item numbers are provided for convenience and Customs purposes. The written description remains dispositive of the scope of this review.

Verification

As provided in section 782(i) of the Act, we verified the information submitted by SeAH and Husteel for use in our final results. We used standard verification procedures, including on-site examination of relevant accounting and production records and original source documents provided by both companies. Our verification results are outlined in the Memorandum to Barbara E. Tillman through Thomas Gilgunn from Scott Lindsay, Nicholas Czajkowski, and Toni Page: Verification of Costs and Sales for Husteel Co., Ltd. in the Administrative Review of Oil Country Tubular Goods, Other Than Drill Pipe, from Korea (December 28, 2005); Memorandum to Barbara E. Tillman through Thomas Gilgunn from Scott Lindsay, Nicholas Czajkowski, and Toni Page: Verification of Costs and Sales for SeAH Co., Ltd. in the Administrative Review of Oil Country Tubular Goods, Other Than Drill Pipe, from Korea (December 28, 2005); Memorandum to Barbara E. Tillman through Thomas Gilgunn from Scott Lindsay and Nicholas Czajkowski: CEP Sales Verification for Husteel USA, Inc. in the Administrative Review of Oil Country Tubular Goods, Other Than Drill Pipe, from Korea (December 30, 2005); and Memorandum to Barbara E. Tillman through Thomas Gilgunn from Scott Lindsay and Nicholas Czajkowski: CEP Sales Verification for Pusan Pipe America, Inc. in the Administrative Review of Oil Country Tubular Goods, Other Than Drill Pipe, from Korea (December 30, 2005).

Analysis of Comments Received

All issues raised in the briefs and rebuttal briefs filed by parties to this administrative review are addressed in the Issues and Decision Memorandum which is hereby adopted by this notice. A list of the issues addressed in the Issues and Decision Memorandum is appended to this notice.

Changes Since the Preliminary Results

After reviewing the Preliminary Results, we have made two changes to SeAH's calculations that have impacted the margin. We included an updated cost of production database to include sales to Canada. We also converted the comparison-market revenue value used to calculate Constructed Export Price profit from U.S. Dollars to Korean Won.

Final Results of Review

As a result of our review, we determine that the following weighted-average margins exist for the period August 1, 2003, through July 31, 2004:

Manufacturer/Exporter | Margin (percent)
SeAH Steel Corporation | 6.84%
Husteel Co., Ltd. | 12.30%

Duty Assessment

The Department shall determine and U.S. Customs and Border Protection (CBP) shall assess antidumping duties on all appropriate entries. Pursuant to 19 CFR 351.212(b)(1), the Department calculates an assessment rate for each importer of the subject merchandise for each respondent. Upon issuance of the final results of this administrative review, if any importer-specific assessment rates calculated in the final results are above de minimis (i.e., at or above 0.5 percent), the Department will issue appraisement instructions directly to CBP to assess antidumping duties on appropriate entries.

To determine whether the duty assessment rates covering the period were de minimis, in accordance with the requirement set forth in 19 CFR 351.106(c)(2), for each respondent we calculated importer (or customer)- specific ad valorem rates by aggregating the dumping margins calculated for all U.S. sales to that importer or customer and dividing this amount by the total entered value of the sales to that importer (or customer). Where an importer (or customer)-specific ad valorem rate is greater than de minimis, and the respondent has reported reliable entered values, we apply the assessment rate to the entered value of the importer's/customer's entries during the review period. Where an importer (or customer)- specific ad valorem rate is greater than de minimis and we do not have reliable entered values, we calculate a per-unit assessment rate by aggregating the dumping duties due for all U.S. sales to each importer (or customer) and dividing this amount by the total quantity sold to that importer (or customer). The Department will issue appropriate assessment instructions directly to CBP within 15 days of the final results of this review.

Cash Deposit Requirements

The following antidumping duty deposit rates will be effective upon publication of the final results of this administrative review for all shipments of OCTG from Korea entered, or withdrawn from warehouse, for consumption on or after the publication date of the final results, as provided for by section 751(a)(1) of the Act: (1) for Husteel and SeAH, the cash deposit rate will be the rate established in the final results of this review; (2) for previously reviewed or investigated companies not listed above, the cash deposit rate will be the company-specific rate established for the most recent period; (3) if the exporter is not a firm covered in this review, a prior review, or the less-than-fair-value (LTFV) investigation, but the manufacturer is, the cash deposit rate will be the rate established for the most recent period for the manufacturer of the subject merchandise; and (4) if neither the exporter nor the manufacturer is a firm covered by this review, a prior review, or the LTFV investigation, the cash deposit rate shall be the all others rate established in the LTFV investigation, which is 12.17 percent. See Final Determination of Sales at Less Than Fair Value: Oil Country Tubular Goods from Korea, 60 FR 33561 (June 28, 1995). These deposit rates, when imposed, shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (APO) of their responsibility concerning the disposition of proprietary information disclosed under APO in accordance with 19 CFR 351.305(a)(5). Timely written notification of the return/destruction of APO materials or conversion to judicial protective order is hereby requested. Failure to comply with the regulations and terms of an APO is a sanctionable violation.

This administrative review and notice are in accordance with sections 751(a)(1) and 777(i)(1) of the Act.

Dated: March 7, 2006.
David M. Spooner,
Assistant Secretary for Import Administration.

APPENDIX

List of Issues

1. The use of China, a non-market economy, as the basis for normal value.

[FR Doc. E6-3632 Filed 3-13-06; 8:45 am]

BILLING CODE 3510-DS-S